DEPARTMENT OF THE INTERIOR

National Park Service

Draft General Management Plan/Environmental Impact Statement, Amistad National Recreation Area, TX

AGENCY: National Park Service, Department of the Interior.

ACTION: Notice of termination of the Environmental Impact Statement for the General Management Plan, Amistad National Recreation Area.

SUMMARY: The National Park Service (NPS) is terminating preparation of an Environmental Impact Statement (EIS) for the General Management Plan, Amistad National Recreation Area, Texas. A Notice of Intent to prepare the EIS for the Amistad National Recreation Area General Management Plan was published in Vol. 68, No. 11, of the January 16, 2003, Federal Register (2351). The National Park Service has since determined that an Environmental Assessment (EA) rather than an EIS is the appropriate environmental documentation for the general management plan.

SUPPLEMENTARY INFORMATION: The general management plan will establish the overall direction for the national recreation area, setting broad management goals for managing the area over the next 15 to 20 years. The plan was originally scoped as an EIS.

However, few public comments were received in the scoping process. Although several concerns were expressed during the public scoping process, particularly on the future of recreational opportunities in the recreation area, no issues were identified for the general management plan that have the potential for controversial impacts.

In the general management planning process the NPS planning team developed two alternatives for the national recreation area, neither of which would result in substantial changes in the operation and management of the area. The action alternative primarily focuses on maintaining and protecting resources, developing new visitor, administration, and law enforcement facilities, and addressing park maintenance/operations needs. The preliminary impact analysis of the alternatives revealed no major (significant) effects on the human environment or impairment of park resources and values. Most of the impacts to the recreation area's resources and values were negligible to minor in magnitude.

For these reasons the NPS determined the appropriate National Environmental Policy Act documentation for the general management plan is an EA.

DATES: The draft general management plan/EA is expected to be distributed for a 30 day public comment period in the spring/summer of 2006 and a decision is expected be made in the fall of 2006. The NPS will notify the public by mail, Web site, and other means, and will include information on where and how to obtain a copy of the EA, how to comment on the EA, and the length of the public comment period.

FOR FURTHER INFORMATION CONTACT: Alan Cox, Superintendent, Amistad National Recreation Area, 4121 Hwy 90 West, Del Rio, TX 78840-9350, telephone: (830) 775-7492, extension 201; e-mail: alan_cox@nps.gov.

Dated: March 15, 2006.
William E. Wellman,
Acting Director, Intermountain Region, National Park Service.

[FR Doc. E6-5938 Filed 4-19-06; 8:45 am]

BILLING CODE 4310-OR-P